DEPARTMENT OF THE INTERIOR

Office of Surface Mining Reclamation and Enforcement

30 CFR Parts 740, 905, 910, 912, 921, 922, 933, 937, 939, 941, 942, and 947

RIN 1029-AC51

Permit Application Packages

AGENCY: Office of Surface Mining Reclamation and Enforcement, Interior.

ACTION: Proposed rule.

SUMMARY: We, the Office of Surface Mining Reclamation and Enforcement (OSM), are proposing to reduce the number of copies of a permit application package that a person must submit. The proposed revisions would conform our regulations to those of the Office of Management and Budget (OMB) regulations implementing the Paperwork Reduction Act.

DATES: Electronic or written comments: Comments on the proposed rule must be received on or before October 15, 2007 to ensure our consideration.

Public hearings: You may submit a request for a public hearing orally or in writing to the person and address specified under FOR FURTHER INFORMATION CONTACT. The address, date and time for any public hearing will be announced before the hearing. Any disabled individual who requires reasonable accommodation to attend a public hearing should also contact the person listed under FOR FURTHER INFORMATION CONTACT.

ADDRESSES: You may submit comments by any of the following methods:

• Federal e-rulemaking Portal: http://www.regulations.gov. The rule is listed under the agency name “OFFICE OF SURFACE MINING RECLAMATION AND ENFORCEMENT.” Once there follow the instructions for submitting comments.

• Mail/Hand-Delivery/Courier: Office of Surface Mining Reclamation and Enforcement, Administrative Record, Room 252-SIB, 1951 Constitution Avenue, NW., Washington, DC 20240. Please include the rule identification number (RIN 1029-AC51) with your comment.

For detailed instructions on submitting comments and additional information on the rulemaking process, see “III. How should I prepare and submit comments on the proposed rule?” in the SUPPLEMENTARY INFORMATION section of this document.

If you wish to comment on the information collection aspects of this proposed rule, you may submit your comments to the Office of Management and Budget, Office of Information and Regulatory Affairs, Attention: Interior Desk Officer, via e-mail to OIRA_DOCKET@omb.eop.gov, or via facsimile to 202-365-6566. Please refer to OMB control number 1029-0027 in your correspondence.

FOR FURTHER INFORMATION CONTACT: John A. Trelease, Office of Surface Mining Reclamation and Enforcement, Room 202, 1951 Constitution Avenue, NW., Washington, DC 20240; Telephone: 202-208-2783. E-mail address: JTrelease@osmre.gov.

SUPPLEMENTARY INFORMATION:

Table of Contents

I. Background

II. How are we proposing to change our rules?

III. How should I prepare and submit comments on the proposed rule?

IV. Procedural Matters and Required Determinations

I. Background

OMB is responsible for implementing provisions of the Paperwork Reduction Act of 1980, as amended in 1986 and 1995. 44 U.S.C. Chapter 35. This law was enacted to minimize the paperwork burden for individuals, businesses, and State, local and Tribal governments resulting from the collection of information by or for the Federal government. 44 U.S.C. 3501. The Paperwork Reduction Act gives OMB the authority to review and approve current and proposed Federal agency collections of information to minimize the information collection burden placed on members of the public. 44 U.S.C. 3504. On August 29, 1995, OMB published its current regulations for controlling paperwork burdens on the public. 60 FR 44978. Those regulations, codified at 5 CFR part 1320, require that Federal agencies submit information collection requests periodically (normally, every three years) to OMB for the review and approval of existing collection activities. The regulations at 5 CFR 1320.5(d)(2) and (d)(2)(iii) collectively state that:

Unless the agency is able to demonstrate, in its submission for OMB clearance, that such characteristic of the collection of information is necessary to satisfy statutory requirements or other substantial need, OMB will not approve a collection of information * * * [r]equiring respondents to submit more than an original and two copies of any document.

Our current regulations at 30 CFR 740.13(b)(2), which govern the permit application package requirements for surface coal mining and reclamation operations on Federal lands, generally require a permit applicant to submit seven copies of its application package to the regulatory authority.

In a recent OMB clearance of our request for approval to collect information for 30 CFR part 740, OMB stated that “(u)pon the next request for approval, OSM shall undertake efforts to reduce the number of copies required to be submitted by applicants to no more than one original and two copies as specified in 5 CFR part 1320.5(d)(2)(iii).”

II. How are we proposing to change our rules?

Permit Application Packages for Surface Coal Mining and Reclamation Operations on Federal Lands

In response to the OMB statement concerning our information collection requirements at 30 CFR 740.13(b)(2), we are proposing to revise the current language, which specifies that “[u]nless specified otherwise by the regulatory authority, seven copies of the complete permit application package shall be filed with the regulatory authority.” The new language would provide that, “[w]hen OSM is the regulatory authority, one complete permit application package shall be filed with the appropriate OSM office in the format specified by that office. When a State is the regulatory authority under a State-Federal cooperative agreement, the appropriate State office shall specify the format and number of copies of each complete permit application package to be filed with that office, so long as the State office does not require more than one original and two copies of the complete application package.”

The reference to a State regulatory authority under an approved State-Federal cooperative agreement addresses the fact that either OSM or a State under a part 745 State-Federal cooperative agreement may be the regulatory authority for surface coal mining and reclamation operations on Federal lands. Thus, the proposed requirements would reduce the number of copies that a permit applicant must submit regardless of whether OSM or the State is the regulatory authority. This change will also satisfy our requirements under the Paperwork Reduction Act and OMB's instructions.

While we are proposing changes to the number of permit application copies required for Federal lands at 30 CFR part 740, we are not proposing to make similar changes to our regulations at 30 CFR part 745. Those regulations allow a State regulatory authority under a State-Federal cooperative agreement to regulate surface coal mining and reclamation operations on Federal lands. Part 745 will not be changed because it does not address the number of copies of each permit application that the applicant must submit.

However, fourteen States have individual State-Federal cooperative agreements under Part 745. These cooperative agreements are codified at 30 CFR parts 901-950 and require that a permit applicant proposing to conduct surface coal mining and reclamation operations on Federal lands submit an “appropriate number of copies” of each permit application package to the State regulatory authority. For example, the Wyoming cooperative agreement requires that “an applicant proposing to conduct surface coal mining and reclamation operations on lands subject to the Federal lands program * * * submit a permit application package (PAP) in an appropriate number of copies * * *” 30 CFR 950.20, Article V.6. We propose to interpret this “appropriate number of copies” language in a manner consistent with the language of proposed § 740.13(b)(2) which would require the State to decide “the format and number of copies of each complete permit application package to be filed with that office, so long as the State office does not require more than one original and two copies of the complete application package.”

We understand that under State-Federal cooperative agreements, State regulatory authorities often require the permit applicant to file more than one original and two copies of the permit application. This usually happens when multiple Federal land management agencies must review and provide recommendations or concurrences on the permit application. Thus, the reduction in the number of copies that permit applicants are required to submit for operations on Federal lands under the proposed rule would shift the burden of making additional copies of the permit application packages to the Federal government or the State regulatory authority with a cooperative agreement under 30 CFR part 745. This shift is consistent with the purposes of the Paperwork Reduction Act which is to reduce information collection burdens imposed on the public by the Federal government and, as discussed above, is needed to comply with OMB's requirement to “reduce the number of copies required to be submitted by applicants to no more than one original and two copies as specified in 5 CFR 1320.5(d)(2)(iii).”

In addition, in our proposed revisions to 30 CFR 740.13(b)(2) and the regulations for the eleven Federal program States, discussed below, we have added a requirement that the appropriate regulatory authority specify a format for the complete application package. This change was made so that regulatory authorities may allow permit application packages to be submitted electronically.

Finally, with respect to the information collection for surface coal mining and reclamation on Federal land, we are revising § 740.10 Information collection to conform that section with general OMB guidelines. Specifically, the estimated burden hours and cost information contained in subsection (b) of the current rule is being removed from the regulations and added to the “Procedural Matters” section of this rulemaking. This change is being made because this information may change with every approved clearance by OMB. In this way, § 740.10 will not become outdated when there is a reestimate or when there is an address change.

Permit Application Packages for Surface Coal Mining and Reclamation Operations in States Where OSM Is the Regulatory Authority

We are also proposing to make similar changes to the regulations for the Federal programs for the eleven States where OSM is the regulatory authority. These regulations currently require that the applicant file five copies of the permit application package. Under the proposed rule, applicants would only be required to file one complete permit application package in the format specified by the appropriate OSM office. The proposed revisions to the individual program rules would be made at 30 CFR 905.773(d)(1) for California, § 910.773(b)(1) for Georgia, § 912.773(b)(1) for Idaho, § 921.773(b)(1) for Massachusetts, § 922.773(b)(1) for Michigan, § 933.773(b)(1) for North Carolina, § 937.773(b)(1) for Oregon, § 939.773(b)(1) for Rhode Island, § 941.773(b)(1) for South Dakota, § 942.773(b)(1) for Tennessee, and § 947.773(b)(1) for Washington.

Because this change will reduce the number of copies of complete permit application packages that applicants are required to submit for operations in the eleven Federal program States, the burden to make additional copies will shift to the Federal government, an estimated annual cost savings of $260.

However, this burden will be limited because out of the eleven Federal program States, surface coal mining and reclamation operations are currently only conducted in Tennessee and Washington, and we do not anticipate receiving any permit application packages in the remaining nine Federal program States. In addition, in the State of Washington, where there is only one permittee, we typically allow that permittee to submit one permit application package in electronic format in lieu of the five copies required by 30 CFR 947.773(b)(1).

Therefore, while there may be some shift in the collection burden from industry to OSM in Tennessee, there will be no shift in the State of Washington because our practice is already in compliance with OMB regulations. Furthermore, any shift in the burden of making copies is consistent with the purposes of the Paperwork Reduction Act as explained above.

III. How should I prepare and submit comments on the proposed rule?

Electronic or Written Comments

If you submit written comments, they should be specific, confined to issues pertinent to the proposed rule, and explain the reason for any recommended change(s). We appreciate any and all comments, but those most useful and likely to influence decisions on a final rule will be those that either involve personal experience or include citations to and analyses of SMCRA, its legislative history, its implementing regulations, case law, or other pertinent State or Federal laws or regulations.

We will make every attempt to log all comments into the administrative record; however, we cannot ensure that comments received after the close of the comment period (see DATES) or at locations other than those listed above (see ADDRESSES) will be included in the Administrative Record and considered.

Public Availability of Comments: Before including your address, phone number, e-mail address, or other personal identifying information in your comment, you should be aware that your entire comment—including your personal identifying information—may be made publicly available at any time. While you can ask us in your comment to withhold your personal identifying information from public review, we cannot guarantee that we will be able to do so.

Public hearings: We will hold a public hearing on the proposed rule upon request only. The time, date, and address for any hearing will be announced in the Federal Register at least 7 days prior to the hearing.

Any person interested in participating in a hearing should inform Mr. John Trelease (see FOR FURTHER INFORMATION CONTACT), either orally or in writing by 4:30 p.m., Eastern Time, on September 4, 2007. If no one has contacted Mr. Trelease to express an interest in participating in a hearing by that date, a hearing will not be held.

If a public hearing is conducted, it will continue on the specified date until all persons scheduled to speak have been heard. If you are in the audience and have not been scheduled to speak and wish to do so, you will be allowed to speak after those who have been scheduled. We will end the hearing after all persons scheduled to speak and persons present in the audience who wish to speak have been heard. To assist the transcriber and ensure an accurate record, we request, if possible, that each person who testifies at a public hearing provide us with a written copy of his or her testimony.

Public meeting: If there is only limited interest in a hearing at a particular location, a public meeting or teleconference, rather than a public hearing, may be held. People wishing to meet with us to discuss the proposed rule may request a meeting by contacting the person listed under FOR FURTHER INFORMATION CONTACT. All meetings will be open to the public and, if possible, notice of the meetings will be posted at the appropriate locations listed under ADDRESSES. A written summary of each public meeting will be made a part of the administrative record of this rulemaking.

IV. Procedural Matters and Required Determinations

A. Executive Order 12866—Regulatory Planning and Review

This proposed rule is not a “significant regulatory action” under Executive Order 12866 for the following reasons:

a. This rule would not have an annual effect of $100 million or more on the economy. It would not adversely affect in a material way the economy, productivity, competition, jobs, the environment, public health or safety, or State, local, or Tribal governments or communities. As previously stated, the revisions contained in the rule are intended to conform to the OMB requirements limiting the number of copies of each permit application package submitted. Any additional costs to States with State-Federal cooperative agreements resulting from the State's need to make additional copies required for review would be covered by Federal grants as authorized under 30 CFR 735.16(c). The additional costs to the Federal government should result in an equivalent cost savings to the regulated industry.

b. This rule would not create a serious inconsistency or otherwise interfere with an action taken or planned by another agency.

c. This rule would not alter the budgetary effects of entitlements, grants, user fees, or loan programs or the rights or obligations of their recipients.

d. This rule would reduce existing information collection requirements and does not raise novel legal or policy issues.

B. Executive Order 13211—Actions Concerning Regulations That Significantly Affect Energy Supply, Distribution, or Use

This rule is not considered a significant energy action under Executive Order 13211. The administrative revisions contained in this rule would not have a significant effect on the supply, distribution, or use of energy.

C. Regulatory Flexibility Act

The Department of the Interior certifies that this rule would not have a significant economic impact on a substantial number of small entities under the Regulatory Flexibility Act (5 U.S.C. 601 et seq.). For the reasons previously stated, the revisions are not expected to have an adverse economic impact on the regulated industry including small entities. Further, the rule would produce no adverse effects on competition, employment, investment, productivity, innovation, or the ability of United States enterprises to compete with foreign-based enterprises in domestic or export markets.

D. Small Business Regulatory Enforcement Fairness Act

This rule is not a major rule under 5 U.S.C. 804(2), the Small Business Regulatory Enforcement Fairness Act. This rule, for the reasons previously stated:

a. Would not have an annual effect on the economy of $100 million or more.

b. Would not cause a major increase in costs or prices for consumers, individual industries, Federal, State, or local government agencies, or geographic regions.

c. Would not have significant adverse effects on competition, employment, investment, productivity, innovation, or the ability of U.S.-based enterprises to compete with foreign-based enterprises.

E. Unfunded Mandates

This rule would not impose an unfunded mandate on State, local, or Tribal governments or the private sector of more than $100 million per year. The rule would not have a significant or unique effect on State, Tribal, or local governments or the private sector. A statement containing the information required by the Unfunded Mandates Reform Act (2 U.S.C. 1534) is not required.

F. Executive Order 12630—Takings

In accordance with Executive Order 12630, the rule does not have significant takings implications.

G. Executive Order 13132—Federalism

In accordance with Executive Order 13132, the rule does not have significant Federalism implications to warrant the preparation of a Federalism Assessment for the reasons discussed above.

H. Executive Order 12988—Civil Justice Reform

In accordance with Executive Order 12988, the Office of the Solicitor has determined that this rule would not unduly burden the judicial system and meets the requirements of sections 3(a) and 3(b)(2) of the Order.

I. Executive Order 13175—Consultation and Coordination With Indian Tribal Governments

In accordance with Executive Order 13175, we have evaluated the potential effects of this rule on Federally recognized Indian tribes and have determined that the proposed revisions pertaining to the number of copies of permit application packages submitted to OSM would not have substantial direct effects on the relationship between the Federal Government and Indian tribes, or on the distribution of power and responsibilities between the Federal Government and Indian Tribes.

J. Paperwork Reduction Act

In accordance with 44 U.S.C. 3507(d), OSM has submitted the information collection and record keeping requirements of 30 CFR part 740 to the Office of Management and Budget for review and approval.

30 CFR Part 740

Title: Surface Mining Permit Applications—Minimum Requirements for Reclamation and Operation Plan.

OMB Control Number: 1029-0027.

Summary: Permit application requirements in sections 507(b), 508(a), 510(b), 515(b) and (d), and 522 of Public Law 95-87 require the applicant to submit the operations and reclamation plan for coal mining activities. Information collection is needed to determine whether the mining and reclamation plan will achieve the reclamation and environmental protections pursuant to the Surface Mining Control and Reclamation Act. Without this information, Federal and State regulatory authorities cannot review and approve permit application requests.

Bureau Form Number: None.

Frequency of Collection: Once.

Description of Respondents: Applicants for surface coal mine permits on Federal lands and the State regulatory authorities who review the applications.

Total Annual Responses: 42.

Total Annual Burden Hours: 3,402.

Comments are invited on:

(a) Whether the proposed collection of information is necessary for the proper performance of OSM and State regulatory authorities, including whether the information will have practical utility;

(b) The accuracy of OSM's estimate of the burden of the proposed collection of information;

(c) Ways to enhance the quality, utility, and clarity of the information to be collected; and

(d) Ways to minimize the burden of collection on the respondents.

Under the Paperwork Reduction Act, OSM must obtain OMB approval of all information and recordkeeping requirements. No person is required to respond to an information collection request unless the form or regulation requesting the information has a currently valid OMB control (clearance) number. This number appears in section 740.10. To obtain a copy of OSM's information collection clearance request contact John A. Trelease at (202) 208-2783 or by e-mail at jtrelease@osmre.gov.

By law, OMB must respond to OSM within 60 days of publication of this proposed rule, but may respond as soon as 30 days after publication. Therefore, to ensure consideration by OMB, you must send comments to OMB regarding these burden estimates or any other aspect of this information collection and recordkeeping requirement by September 13, 2007. Please send your comments on the information collection aspects of this proposed rule to the Office of Management and Budget, Office of Information and Regulatory Affairs, Attention: Interior Desk Officer, via e-mail to OIRA_DOCKET@omb.eop.gov, or via facsimile to (202) 395-6566. Also, send a copy of your comments to John A. Trelease, Office of Surface Mining Reclamation and Enforcement, 1951 Constitution Ave., NW., Room 202—SIB, Washington, DC 20240, or electronically to jtrelease@osmre.gov. Please note that you may still send comments to OSM on the proposed rulemaking until 4:30 p.m., Eastern Time, on October 15, 2007.

K. National Environmental Policy Act

OSM has determined that this rulemaking action is categorically excluded from the requirement to prepare an environmental document under the National Environmental Policy Act of 1969, as amended, 42 U.S.C. 4332 et seq. In addition, we have determined that none of the “extraordinary circumstances” exceptions to the categorical exclusion applies. This determination was made in accordance with the Departmental Manual (516 DM 2, Appendixes 1.10 and 2).

L. Clarity of This Regulation

Executive Order 12866 requires each agency to write regulations that are easy to understand. We invite your comments on how to make this proposed rule easier to understand, including answers to questions such as the following: (1) Are the requirements in the proposed rule clearly stated? (2) Does the proposed rule contain technical language or jargon that interferes with its clarity? (3) Does the format of the proposed rule (grouping and order of sections, use of headings, paragraphing, etc.) aid or reduce its clarity? (4) Would the rule be easier to understand if it were divided into more (but shorter) sections (A “section” appears in bold type and is preceded by the symbol “§ ” and a numbered heading; for example, § 740.13 Permits. (5) Is the description of the proposed rule in the SUPPLEMENTARY INFORMATION section of this preamble helpful in understanding the proposed rule? (6) What else could we do to make the proposed rule easier to understand? Send a copy of any comments that concern how we could make this proposed rule easier to understand to: Office of Regulatory Affairs, Department of the Interior, Room 7229, 1849 C Street NW., Washington, DC 20240. You may also e-mail the comments to this address: Exsec@ios.doi.gov.

List of Subjects

30 CFR Part 740

Federal lands, Reporting and recordkeeping requirements, Surface mining.

30 CFR Part 905

Intergovernmental relations, Surface mining, Underground mining.

30 CFR Part 910

Intergovernmental relations, Surface mining, Underground mining.

30 CFR Part 912

Intergovernmental relations, Surface mining, Underground mining.

30 CFR Part 921

Intergovernmental relations, Surface mining, Underground mining.

30 CFR Part 922

Intergovernmental relations, Surface mining, Underground mining.

30 CFR Part 933

Intergovernmental relations, Surface mining, Underground mining.

30 CFR Part 937

Intergovernmental relations, Surface mining, Underground mining.

30 CFR Part 939

Intergovernmental relations, Surface mining, Underground mining.

30 CFR Part 941

Intergovernmental relations, Surface mining, Underground mining.

30 CFR Part 942

Intergovernmental relations, Surface mining, Underground mining.

30 CFR Part 947

Intergovernmental relations, Surface mining, Underground mining.

Dated: July 11, 2007.
C. Stephen Allred,
Assistant Secretary, Land and Minerals Management.

Accordingly, we propose amending 30 CFR parts 740, 905, 910, 912, 921, 922, 933, 937, 939, 941, 942, and 947 as set forth below.

PART 740—GENERAL REQUIREMENTS FOR SURFACE COAL MINING AND RECLAMATION OPERATIONS ON FEDERAL LANDS

1. The authority citation for part 740 continues to read as follows:

Authority: 30 U.S.C. 1201 et seq. and 30 U.S.C. 181 et seq.

2. Section 740.10 is revised to read as follows:

§ 740.10 Information collection.

In accordance with 44 U.S.C. 3501 et seq., the Office of Management and Budget (OMB) has approved the information collection requirements of this part. The OMB control number is 1029-0027. This information is needed to implement section 523 of the Act, which governs surface coal mining operations on Federal lands. Persons intending to conduct such operations must respond to obtain a benefit. A Federal agency may not conduct or sponsor, and you are not required to respond to, a collection of information unless it displays a currently valid OMB control number.

3. In § 740.13, revise paragraph (b)(2) to read as follows:

§ 740.13 Permits.

* * * * *

(b) * * *

(2) When OSM is the regulatory authority, one complete permit application package shall be filed with the appropriate OSM office in the format specified by that office. When a State is the regulatory authority under a State-Federal cooperative agreement, the appropriate State office shall specify the format and number of copies of each complete permit application package to be filed with that office, so long as the State office does not require more than one original and two copies of the complete application package.

* * * * *

PART 905—CALIFORNIA

4. The authority citation for part 905 continues to read as follows:

Authority: 30 U.S.C. 1201 et seq.

5. In § 905.773, revise paragraph (d)(1) to read as follows:

§ 905.773 Requirements for permits and permit processing.

* * * * *

(d) * * *

(1) Any person applying for a permit shall submit an application in the format specified by the Office.

* * * * *

PART 910—GEORGIA

6. The authority citation for part 910 continues to read as follows:

Authority: 30 U.S.C. 1201 et seq.

7. In § 910.773, revise paragraph (b)(1) to read as follows:

§ 910.773 Requirements for permits and permit processing.

* * * * *

(b) * * *

(1) Any person applying for a permit shall submit an application in the format specified by the Office.

* * * * *

PART 912—IDAHO

8. The authority citation for part 912 continues to read as follows:

Authority: 30 U.S.C. 1201 et seq.

9. In § 912.773, revise paragraph (b)(1) to read as follows:

§ 912.773 Requirements for permits and permit processing.

* * * * *

(b) * * *

(1) Any person applying for a permit shall submit an application in the format specified by the Office.

* * * * *

PART 921—MASSACHUSETTS

10. The authority citation for part 921 continues to read as follows:

Authority: 30 U.S.C. 1201 et seq.

11. In § 921.773, revise paragraph (b)(1) to read as follows:

§ 921.773 Requirements for permits and permit processing.

* * * * *

(b) * * *

(1) Any person applying for a permit shall submit an application in the format specified by the Office.

* * * * *

PART 922—MICHIGAN

12. The authority citation for part 922 continues to read as follows:

Authority: 30 U.S.C. 1201 et seq.

13. In § 922.773, revise paragraph (b)(1) to read as follows:

§ 922.773 Requirements for permits and permit processing.

* * * * *

(b) * * *

(1) Any person applying for a permit shall submit an application in the format specified by the Office.

* * * * *

PART 933—NORTH CAROLINA

14. The authority citation for part 933 continues to read as follows:

Authority: 30 U.S.C. 1201 et seq.

15. In § 933.773, revise paragraph (b)(1) to read as follows:

§ 933.773 Requirements for permits and permit processing.

* * * * *

(b) * * *

(1) Any person applying for a permit shall submit an application in the format specified by the Office.

* * * * *

PART 937—OREGON

16. The authority citation for part 937 continues to read as follows:

Authority: 30 U.S.C. 1201 et seq.

17. In § 937.773, revise paragraph (b)(1) to read as follows:

§ 937.773 Requirements for permits and permit processing.

* * * * *

(b) * * *

(1) Any person applying for a permit shall submit an application in the format specified by the Office.

* * * * *

PART 939—RHODE ISLAND

18. The authority citation for part 939 continues to read as follows:

Authority: 30 U.S.C. 1201 et seq.

19. In § 939.773, revise paragraph (b)(1) to read as follows:

§ 939.773 Requirements for permits and permit processing.

* * * * *

(b) * * *

(1) Any person applying for a permit shall submit an application in the format specified by the Office.

* * * * *

PART 941—SOUTH DAKOTA

20. The authority citation for part 941 continues to read as follows:

Authority: 30 U.S.C. 1201 et seq.

21. In § 941.773, revise paragraph (b)(1) to read as follows:

§ 941.773 Requirements for permits and permit processing.

* * * * *

(b) * * *

(1) Any person applying for a permit shall submit an application in the format specified by the Office.

* * * * *

PART 942—TENNESSEE

22. The authority citation for part 942 continues to read as follows:

Authority: 30 U.S.C. 1201 et seq.

23. In § 942.773, revise paragraph (b)(1) to read as follows:

§ 942.773 Requirements for permits and permit processing.

* * * * *

(b) * * *

(1) Any person applying for a permit shall submit an application in the format specified by the Office.

* * * * *

PART 947—WASHINGTON

24. The authority citation for part 947 continues to read as follows:

Authority: 30 U.S.C. 1201 et seq.

25. In § 947.773, revise paragraph (b)(1) to read as follows:

§ 947.773 Requirements for permits and permit processing.

* * * * *

(b) * * *

(1) Any person applying for a permit shall submit an application in the format specified by the Office.

* * * * *

[FR Doc. E7-15930 Filed 8-13-07; 8:45 am]

BILLING CODE 4310-05-P